INTERNATIONAL TRADE COMMISSION

[Inv. No. 337-TA-450]

In the Matter of Certain Integrated Circuits, Processes for Making Same, and Products Containing Same; Notice of Rescission of Limited Exclusion Order and Vacatur of Administrative Law Judge Order No. 5

AGENCY: International Trade Commission.

SUMMARY: Notice is hereby given that the U.S. International Trade Commission has rescinded the limited exclusion order issued on October 8, 2002, at the conclusion of the above-captioned investigation, and vacated Administrative Law Judge (“ALJ”) Order No. 5.

FOR FURTHER INFORMATI0N CONTACT: David I. Wilson, Esq., Office of the General Counsel, U.S. International Trade Commission, 500 E Street, SW., Washington, DC 20436, telephone 202-708-2310. Copies of the Commission Order and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server at http://www.usitc.gov. The public record for this investigation may be viewed on the Commission's electronic docket (EDIS-ON-LINE) at http://edis.usitc.gov. Hearing-impaired persons are advised that information on the matter can be obtained by contacting the Commission's TDD terminal on 202-205-1810.

SUPPLEMENTARY INFORMATION: On March 6, 2001, the Commission voted to instituted this investigation, which concerned allegations of unfair acts in violation of section 337 of the Tariff Act of 1930, 19 U.S.C. 1337, in the importation and sale of certain integrated circuits, processes for making same, and products containing same. 66 FR 13567 (Mar. 6, 2001). On October 8, 2002, the Commission found a violation of section 337 in the unlawful importation and sale by respondents Silicon Integrated Systems Corp. of Taiwan and Silicon Integrated Systems Corp. of the United States (collectively “respondents”) of certain integrated circuits, and certain products containing same, made by a process covered by claim 13 of U.S. Patent No. 6,117,345, owned by complainants United Microelectronics Corp., UMC Group (USA), and United Foundry Service, Inc. (collectively “complainants”).

On March 13, 2003, complainants and respondents filed a joint petition to rescind the limited exclusion order under Commission rule 210.76(a)(1), 19 CFR 210.76(a)(1), on the basis of a settlement agreement they had reached. Complainants and respondents asserted that their settlement agreement constituted “changed conditions of fact or law” sufficient to justify rescission of the order under Commission rule 210.76(a)(1). Complainants and respondents also sought in their joint petition to have the Commission vacate Administrative Law Judge (“ALJ”) Order No. 5, which restricted the patent prosecution activities of William H. Wright of Hogan & Hartson, counsel for complainants, and other patent practioners at Hogan & Hartson, who had subscribed to the administrative protective order. ALJ Order No. 5 had been entered at the request of respondents.

This action is taken under the authority of section 337 of the Tariff Act of 1930, 19 U.S.C. 1337, and § 210.76(a)(1) of the Commission's rules of practice and procedure, 19 CFR 210.76(a)(1).

Issued: April 23, 2003.
By order of the Commission.
Marilyn R. Abbott,
Secretary to the Commission.

[FR Doc. 03-10615 Filed 4-29-03; 8:45 am]

BILLING CODE 7020-02-P